DEPARTMENT OF AGRICULTURE

Forest Service

36 CFR Part 228

RIN 0596-AC20

DEPARTMENT OF THE INTERIOR

Bureau of Land Management

43 CFR Part 3160

[W0-610-411H12-24 1A]

RIN 1004-AD59

Onshore Oil and Gas Operations; Federal and Indian Oil and Gas Leases; Onshore Oil and Gas Order Number 1, Approval of Operations; Correction

AGENCIES: U.S. Forest Service, Agriculture; Bureau of Land Management, Interior.

ACTION: Joint final rule; correction.

SUMMARY: On March 7, 2007, the Forest Service and the Bureau of Land Management jointly published a final rule (72 FR 10308). The dates heading on page 10308 incorrectly set out the effective date as April 6, 2007. The correct effective date of the final rule is May 7, 2007, consistent with the chart on page 10328.

DATES: The effective date of the final rule published March 7, 2007 (72 FR 10308) is corrected to May 7, 2007.

FOR FURTHER INFORMATION CONTACT: Kelly Odom, Bureau of Land Management, at (202) 452-5028.

Tony Ferguson,
Assistant Director, Minerals and Geology Management, United States Forest Service.
Ray Brady,
Acting Assistant Director, Minerals, Realty and Resource Protection, Bureau of Land Management.

[FR Doc. 07-1150 Filed 3-8-07; 8:45 am]

BILLING CODE 3410-11-P; 4310-84-P